DEPARTMENT OF HOMELAND SECURITY

Federal Emergency Management Agency

Agency Information Collection Activities: Proposed Collection; Comment Request

AGENCY: Federal Emergency Management Agency, DHS.

ACTION: Notice; 60-day notice and request for comments; Reinstatement, with change, of a previously approved collection for which approval has expired, OMB Number 1660-0059, FEMA Form 517-1, FEMA Form 512-1.

SUMMARY: The Federal Emergency Management Agency (FEMA), as part of its continuing effort to reduce paperwork and respondent burden, invites the general public and other Federal agencies to take this opportunity to comment on a reinstatement of an information collection. In accordance with the Paperwork Reduction Act of 1995, this notice seeks comments concerning this information collection that allows the National Flood Insurance Program (NFIP) to facilitate the availability of flood insurance to those who have a need to purchase such. The NFIP will collect information from insurance agents who will offer the ability to purchase flood insurance as well as from those interested in purchasing the insurance policies so as to offer referral information on how the coverage may be obtained. If the information collection were not performed, the ability to offer respondents the resources available by the NFIP would be adversely affected.

SUPPLEMENTARY INFORMATION: FEMA administers the National Flood Insurance Program (NFIP) in response to losses due to floods. The Flood Disaster Protection Act of 1973, Congress Findings and Declaration of Purpose, Section 2(a)(6) finds that it is in the public interest for persons already living in flood prone areas to have an opportunity to purchase flood insurance and access to more adequate limits of coverage in order to be indemnified for their losses in the event of future flood disasters. This collection will allow for consumers to be educated about flood insurance coverage and to assist them in obtaining such coverage.

Collection of Information

Title: National Flood Insurance Program Call Center and Agent Referral Enrollment Form.

Type of Information Collection: Reinstatement, with change, of a previously approved collection for which approval has expired.

OMB Number: 1660-0059.

Form Numbers: FEMA Form 517-1, Agent Referral Program Enrollment, FEMA Form 512-1, FEMA Inbound Script.

Abstract: The information collection serves two purposes: (1) allows the NFIP to service requests for flood insurance information or agent referral services from potential purchasers through calls to the toll-free number or by visiting the Web site, and (2) allows insurance agents to enroll in the Agent Referral Program and Agent Co-Op Program. Should the request include an insurance agent referral, the name and business address of insurance agents in the caller's geographic area, who are enrolled in the referral service, are provided.

Affected Public: Individuals or households; Business or other for-profit; Not-for-profit institutions.

Estimated Total Annual Burden Hours: 3,943 Hours.

Table A.12—Estimated Annualized Burden Hours and Costs
Type of respondent | Form name/form No. | Number of respondents | Number of responses per respondent | Avg. burden per response (in hours) | Total annual burden (in hours) | Avg. hourly wage rate | Total annual respondent cost
Individual or household | Call to call center and visitors to the Web site/FEMA Form 512-1 | 73,017 | 1 | 0.05 | 3,651 | $14.61 | $53,338.92
Businesses or other for-profit | Agent Referral Program Enrollment Form/FEMA Form 517-1 | 8,779 | 1 | 0.033 | 292 | 28.10 | 8,140.77
Total |  | 81,796 |  |  | 3,943 |  | 61,479.69

Estimated Cost: The estimated annualized cost to respondents based on wage rate categories is $61,479.69. The estimated cost to the Federal Government is $392,201.00.

Comments: Written comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before December 15, 2008.

ADDRESSES: Interested persons should submit written comments to Office of Management, Records Management Division, Federal Emergency Management Agency, 500 C Street, SW., Washington, DC 20472, Mail Drop Room 301.

FOR FURTHER INFORMATION CONTACT: Contact Carolyn Goss, Program Analyst, Mitigation, Risk Insurance, Industry and Public Relations Branch, (703) 605-0631 for additional information. You may contact the Records Management Division for copies of the proposed collection of information at facsimile number (202) 646-3347 or e-mail address: FEMA-Information-Collections@dhs.gov.

Pamela J. Carcirieri,
Acting Director, Records Management Division, Office of Management, Federal Emergency Management Agency, Department of Homeland Security.

[FR Doc. E8-24478 Filed 10-14-08; 8:45 am]

BILLING CODE 9110-41-P